DEPARTMENT OF TRANSPORTATION

Federal Aviation Administration

14 CFR Part 39

[Docket No. 2001-CE-48-AD; Amendment 39-12591; AD 2001-26-25]

RIN 2120-AA64

Airworthiness Directives; Grob-Werke Gmbh & Co KG Models G102 Club Astir III, G102 Club Astir IIIb, and G102 Standard Astir III Sailplanes

AGENCY: Federal Aviation Administration, DOT.

ACTION: Final rule; request for comments.

SUMMARY: This amendment adopts a new airworthiness directive (AD) that applies to all Grob-Werke Gmbh & Co KG (Grob) Models G102 Club Astir III, G102 Club Astir IIIb, and G102 Standard Astir III sailplanes. This AD requires you to apply a red mark and install a placard on the airspeed indicator to restrict the Vne airspeed. This AD is the result of mandatory continuing airworthiness information (MCAI) issued by the airworthiness authority for Germany. The actions specified by this AD are intended to prevent elevator flutter, which could cause structural damage. Such damage could result in loss of control of the sailplane.

DATES: This AD becomes effective on January 31, 2002.

The Director of the Federal Register approved the incorporation by reference of certain publications listed in the regulation as of January 31, 2002.

The Federal Aviation Administration (FAA) must receive any comments on this rule on or before February 11, 2002.

ADDRESSES: Submit comments to FAA, Central Region, Office of the Regional Counsel, Attention: Rules Docket No. 2001-CE-48-AD, 901 Locust, Room 506, Kansas City, Missouri 64106.

You may get the service information referenced in this AD from GROB Luft-und Raumfahrt, Lettenbachstrasse 9, D86874 Tussenhausen-Mattsies, Federal Republic of Germany; telephone: 49 8268 998139; facsimile: 49 8268 998200. You may view this information at FAA, Central Region, Office of the Regional Counsel, Attention: Rules Docket No. 2001-CE-48-AD, 901 Locust, Room 506, Kansas City, Missouri 64106; or at the Office of the Federal Register, 800 North Capitol Street, NW, suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What events have caused this AD? The LBA, which is the airworthiness authority for Germany, recently notified FAA that an unsafe condition may exist on all Grob Models G102 Club Astir III, G102 Club Astir IIIb, and G102 Standard Astir III sailplanes. The LBA reports two occurrences of elevator flutter on Model G102 Club Astir III sailplanes. The exact cause of this condition is unknown at this time; however, both airplanes were operating in the upper flight speed range.

What are the consequences if the condition is not corrected?Elevator flutter could cause structural damage to the sailplane. Such damage could result in loss of control of the sailplane.

Is there service information that applies to this subject?Grob has issued Service Bulletin No. MSB306-36/2, dated November 22, 2001.

The service bulletin includes procedures for:

—Applying a red mark on the airspeed indicator at 165 kilometers/hour (km/h), 89.1 knots (kts), or 102.5 miles per hour (mph) (according to the airspeed indicator calibration); and

—Installing a red placard to the airspeed indicator restricting the Vne airspeed to 165 km/h, 89.1 kts, or 102.5 mph (according to the airspeed indicator calibration).

What action did the LBA take? The LBA classified this service bulletin as mandatory and issued German AD Number 2001-317/2, dated November 30, 2001, in order to ensure the continued airworthiness of these sailplanes in Germany.

Was this in accordance with the bilateral airworthiness agreement? These sailplane models are manufactured in Germany and are type certificated for operation in the United States under the provisions of § 21.29 of the Federal Aviation Regulations (14 CFR 21.29) and the applicable bilateral airworthiness agreement.

Pursuant to this bilateral airworthiness agreement, the LBA has kept us informed of the situation described above.

The FAA's Determination and an Explanation of the Provisions of This AD

What has FAA decided? The FAA has examined the findings of the LBA; reviewed all available information, including the service information referenced above; and determined that:

—The unsafe condition (elevator flutter while operating in the upper flight speed range) referenced in this document could develop on other Grob Models G102 Club Astir III, G102 Club Astir IIIb, and G102 Standard Astir III sailplanes of the same type design;

—The actions specified in the previously-referenced service information (as specified in this AD) should be accomplished on the affected sailplanes; and

—AD action should be taken in order to correct this unsafe condition.

What does this AD require? This AD requires you to incorporate the actions in the previously-referenced service bulletin.

In preparation of this rule, we contacted type clubs and aircraft operators to obtain technical information and information on operational and economic impacts. We have included, in the rulemaking docket, a discussion of information that may have influenced this action.

Is there a modification I can incorporate instead of restricting the Vne airspeed? The FAA has determined that long-term continued operational safety would be better assured by design changes that correct the source of the problem rather than by restricting the Vne airspeed. With this in mind, FAA will continue to work with Grob in collecting information and in performing analysis to determine whether a future design change is feasible.

Will I have the opportunity to comment prior to the issuance of the rule? Because the unsafe condition described in this document could result in loss of control of the sailplane, we find that notice and opportunity for public prior comment are impracticable. Therefore, good cause exists for making this amendment effective in less than 30 days.

Comments Invited

How do I comment on this AD? Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of this AD action and determining whether we need to take additional rulemaking action.

Are there any specific portions of this AD I should pay attention to? We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How can I be sure FAA receives my comment? If you want us to acknowledge the receipt of your comments, you must include a self-addressed, stamped postcard. On the postcard, write “Comments to Docket No. 2001-CE-48-AD.” We will date stamp and mail the postcard back to you.

Compliance Time of This AD

What is the compliance time of this AD? The compliance time of this AD is “within the next 10 calendar days after the effective date of this AD.”

Why is the compliance time presented in calendar time instead of hours time-in-service (TIS)? Although the elevator would only flutter during flight, this unsafe condition is not a result of the number of times the sailplane is operated. The chance of this situation occurring is the same for a sailplane with 10 hours time-in-service (TIS) as it would be for a sailplane with 500 hours TIS. For this reason, the FAA has determined that a compliance based on calendar time should be utilized in this AD in order to ensure that the unsafe condition is addressed on all sailplanes in a reasonable time period.

Regulatory Impact

Does this AD impact various entities? These regulations will not have a substantial direct effect on the States, on the relationship between the national Government and the States, or on the distribution of power and responsibilities among the various levels of government. Therefore, FAA has determined that this final rule does not have federalism implications under Executive Order 13132.

Does this AD involve a significant rule or regulatory action? We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2001-26-25 Grob-Werke Gmbh & Co KG: Amendment 39-12591; Docket No. 2001-CE-48-AD

(a) What sailplanes are affected by this AD? This AD affects the following Models G102 Club Astir III, G102 Club Astir IIIb, and G102 Standard Astir III sailplanes, all serial numbers, that are certificated in any category.

(b) Who must comply with this AD? Anyone who wishes to operate any of the above sailplanes must comply with this AD.

(c) What problem does this AD address? The actions specified by this AD are intended to prevent elevator flutter, which could cause structural damage. Such damage could result in loss of control of the sailplane.

(d) What actions must I accomplish to address this problem? To address this problem, you must accomplish the following:

Actions | Compliance | Procedures
(1) Apply a red mark on the airspeed indicator at 165 kilometers/hour (km/h), 89.1 knots (kts), or 102.5 miles per hour (mph) (according to the airspeed indicator calibration) | Within the next 10 calendar days after January 31, 2002 (the effective date of this AD) | In accordance with Grob Service Bulletin No. MSB306-36/2, dated November 22, 2001.
(2) Install a placard on the airspeed indicator at restricting the Vne airspeed as indicated in paragraph (d)(1) of this AD. The owner/operator holding at least a private pilot certificate as authorized by section 43.7 of the Federal Aviation Regulations (14 CFR 43.7) may perform the installation of the placard. You must make an entry into the aircraft records that shows compliance with this portion of the AD, in accordance with section 43.9 of the Federal Aviation Regulations (14 CFR 43.9) | Within the next 10 calendar days after January 31, 2002 (the effective date of this AD) | In accordance with Grob Service Bulletin No. MSB306-36/2, dated November 22, 2001.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4144; facsimile: (816) 329-4090.

(g) What if I need to fly the sailplane to another location to comply with this AD? The FAA can issue a special flight permit under §§ 21.197 and 21.199 of the Federal Aviation Regulations (14 CFR 21.197 and 21.199) to operate your sailplane to a location where you can accomplish the requirements of this AD.

(h) Are any service bulletins incorporated into this AD by reference? Actions required by this AD must be done in accordance with Grob Service Bulletin No. MSB306-36/2, dated November 22, 2001. The Director of the Federal Register approved this incorporation by reference under 5 U.S.C. 552(a) and 1 CFR part 51. You can get copies from GROB Luft-und Raumfahrt, Lettenbachstrasse 9, D86874 Tussenhausen-Mattsies, Federal Republic of Germany; telephone: 49 8268 998139; facsimile: 49 8268 998200. You may view copies at FAA, Central Region, Office of the Regional Counsel, 901 Locust, Room 506, Kansas City, Missouri, or at the Office of the Federal Register, 800 North Capitol Street, NW, suite 700, Washington, DC.

(i) When does this amendment become effective? This amendment becomes effective on January 31, 2002.

Note 2: The subject of this AD is addressed in German AD 2001-317/2, dated November 30, 2001.

Issued in Kansas City, Missouri, on December 27, 2001.
Michael K. Dahl,
Acting Manager, Small Airplane Directorate, Aircraft Certification Service.

[FR Doc. 02-89 Filed 1-7-02; 8:45 am]

BILLING CODE 4910-13-U